DEPARTMENT OF COMMERCE

National Oceanic and Atmospheric Administration

[RTID 0648-XD289]

North Pacific Fishery Management Council; Public Meeting

AGENCY: National Marine Fisheries Service (NMFS), National Oceanic and Atmospheric Administration (NOAA), Commerce.

ACTION: Notice of hybrid meeting.

SUMMARY: The North Pacific Fishery Management Council (Council) Crab Plan Team will meet. See SUPPLEMENTARY INFORMATION for agenda and details.

DATES: The meeting will be held on Tuesday, September 12, 2023, through Thursday, September 14, 2023, from 9 a.m. to 4:30 p.m., Pacific Standard time.

ADDRESSES: The meetings will be a hybrid meeting. The in-person component of the meeting will be held at the Alaska Fishery Science Center in the Traynor Room 2076, 7600 Sand Point Way NE, Building 4, Seattle, WA 98115, If you plan to attend in-person you need to notify Sarah Rheinsmith (sarah.rheinsmith@noaa.gov) at least two days prior to the meeting (or two weeks prior if you are a foreign national). You will also need a valid U.S. Identification Card. If you are attending virtually, join the meeting online through the link at https://meetings.npfmc.org/Meeting/Details/3012.

Council address: North Pacific Fishery Management Council, 1007 W 3rd Ave., Anchorage, AK 99501-2252; telephone: (907) 271-2809. Instructions for attending the meeting via video conference are given under SUPPLEMENTARY INFORMATION, below.

FOR FURTHER INFORMATION CONTACT: Sarah Rheinsmith, Council staff; phone: (907) 271-2809; email: sarah.rheinsmith@noaa.gov. For technical support, please contact our admin Council staff, email: npfmc.admin@noaa.gov.

SUPPLEMENTARY INFORMATION:

Agenda

Tuesday September 12, 2023, Through Thursday, September 14, 2023

The agenda will include: (a) summer trawl survey results; (b) Fishery summary 2022/2023; (c) Ecosystem Status report; (d) Economic status of fisheries update; (e) PIBKC (Pribilof Island Blue King Crab) SAFE (Stock Assessment and Fishery Evaluation) report; (f) BBRKC (Bristol Bay Red King) Crab SAFE report; (g) Snow crab SAFE report; (h) BBRKC and snow crab report cards; (i) Tanner crab SAFE report; (j) NSRKC (Norton Sound Red King Crab) proposed models; (k) Overfishing status updates; (l) BSFRF (Bering Sea Fisheries Research Foundation) update; and (m) additional topics. The agenda is subject to change, and the latest version will be posted at https://meetings.npfmc.org/Meeting/Details/3012 prior to the meeting, along with meeting materials.

Connection Information

You can attend the meeting online using a computer, tablet, or smart phone, or by phone only. Connection information will be posted online at: https://meetings.npfmc.org/Meeting/Details/3012.

Public Comment

Public comment letters will be accepted and should be submitted electronically to https://meetings.npfmc.org/Meeting/Details/3012.

(Authority: 16 U.S.C. 1801 et seq.)

Dated: August 23, 2023.
Rey Israel Marquez,
Acting Deputy Director, Office of Sustainable Fisheries, National Marine Fisheries Service.

[FR Doc. 2023-18558 Filed 8-29-23; 8:45 am]

BILLING CODE 3510-22-P